DEPARTMENT OF ENERGY

Federal Energy Regulatory Commission

[Project No. 14085-000]

Village of Swanton, VT; Notice of Preliminary Permit Application Accepted for Filing and Soliciting Comments, Motions To Intervene, and Competing Applications

On February 4, 2011, the Village of Swanton, Vermont (Swanton) filed an application for a preliminary permit, pursuant to section 4(f) of the Federal Power Act (FPA), proposing to study the feasibility of the Swanton Dam Hydroelectric Project to be located on the Missisquoi River in the Village of Swanton, Franklin County, Vermont. The sole purpose of a preliminary permit, if issued, is to grant the permit holder priority to file a license application during the permit term. A preliminary permit does not authorize the permit holder to perform any land-disturbing activities or otherwise enter upon lands or waters owned by others without the owners' express permission.

The proposed project would consist of: (1) The existing 12-foot-high, 335-foot-long Swanton dam equipped with a 331-foot-long spillway; (2) the existing 170-acre reservoir with a normal water surface elevation of 108 feet NGVD; (3) an existing headgate structure equipped with trashracks; (4) a new powerhouse containing two turbine generating units with a total installed capacity of 825 kilowatts; (5) a new 45-foot-wide, 45-foot-long tailrace; and (6) a new 210-foot-long, 12.47-kilovolt transmission line. The project would produce an estimated average annual generation of about 3,580 megawatt-hours.

Applicant Contact: Paul Nolan, 5515 North 17th Street, Arlington, VA 22205, phone: (703) 534-5509.

FERC Contact: Tom Dean (202) 502-6041.

Deadline for filing comments, motions to intervene, competing applications (without notices of intent), or notices of intent to file competing applications: 60 Days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-14085) in the docket number field to access the document. For assistance, contact FERC Online Support.

Dated: February 10, 2011.
Kimberly D. Bose,
Secretary.

[FR Doc. 2011-3625 Filed 2-16-11; 8:45 am]

BILLING CODE 6717-01-P